DEPARTMENT OF THE INTERIOR

National Park Service

[NPS-WASO-NRNHL-DTS#-39080; PPWOCRADI0, PCU00RP14.R50000]

National Register of Historic Places; Notification of Pending Nominations and Related Actions

AGENCY: National Park Service, Interior.

ACTION: Notice.

SUMMARY: The National Park Service is soliciting electronic comments on the significance of properties nominated before November 9, 2024, for listing or related actions in the National Register of Historic Places.

DATES: Comments should be submitted electronically by December 5, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 9, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

KANSAS

Johnson County

Walker School, (Public Schools of Kansas MPS), 9420 W 50th Terr, Merriam, MP100011170

NORTH CAROLINA

Buncombe County

Hopkins Chapel A.M.E. Zion Church, 21 College Place, Ashville, SG100011171.

Pender County

Shelter Neck Historic District, 3707 Croomsbridge Road, Burgaw vicinity, SG100011165

TENNESSEE

Shelby County

First National Bank Operations Center, 55 N Danny Thomas Blvd., Memphis, SG100011179

UTAH

Summit County

Silver King Coalition Mine Historic District (Historic Mining Resources of Park City, Utah MPS), approximately 655 King Road, Park City vicinity, MP100011167

VIRGINIA

Frederick County

Kernstown Battlefield Historic District, 610 Battle Park Drive, Winchester, SG100011178

WISCONSIN

Ozaukee County

St. Peter Shipwreck (Schooner) (Great Lakes Shipwreck Sites of Wisconsin MPS), Address Restricted, Port Washington vicinity, MP100011163

An additional documentation has been received for the following resource(s):

MARYLAND

Frederick County

Catoctin Mountain Park (Additional Documentation) (ECW Architecture in Catoctin Mountain Park MPS), Address Restricted, Thurmont vicinity, AD14000325, Comment period: 0 days

NORTH CAROLINA

Cabarrus County

Mount Pleasant Historic District (Additional Documentation), College. Franklin. Jackson, Kluttz, Main, Park, and Walnut Streets, Mount Pleasant, AD86001050

Nomination(s) submitted by Federal Preservation Officers:

The State Historic Preservation Officer reviewed the following nomination(s) and responded to the Federal Preservation Officer within 45 days of receipt of the nomination(s) and supports listing the properties in the National Register of Historic Places.

COLORADO

Montezuma County

Rock Springs Ranger Station (Mesa Verde National Park's Early Administrative Resources MPS), Wetherill Mesa Road, Mesa Verde National Park, MP100011174

Park Point Fire Lookout (Mesa Verde National Park's Early Administrative Resources MPS), Park Point Lookout Access Road at Mile Marker 10 off Main Park Road, Mesa Verde National Park, MP100011175

Chapin Mesa Village Historic District (Mesa Verde National Park's Early Administrative Resources MPS), Chapin Mesa, Headquarters Loop Road, Mesa Verde National Park, MP100011176

Entrance Residence, Check Station Residence (Mesa Verde National Park's Early Administrative Resources MPS), Park Entrance Road at junction with U.S. Highway 160, Mesa Verde National Park, MP100011177

UTAH

Davis County

Building 225-Airplane Repair Hangar, 5875 Southgate Avenue, Hill AFB, SG100011169

Authority: Section 60.13 of 36 CFR part 60.

Paul R. Lusignan,
Acting Chief, National Register of Historic Places/National Historic Landmarks Program.

[FR Doc. 2024-26860 Filed 11-19-24; 8:45 am]

BILLING CODE 4312-52-P